DEPARTMENT OF THE INTERIOR

National Park Service

[NPS-WASO-NAGPRA-NPS0024070; PPWOCRADN0-PCU00RP14.R50000]

Notice of Inventory Completion: U.S. Army Corps of Engineers, Omaha District, Omaha, NE, and State Archaeological Research Center, Rapid City, SD

AGENCY: National Park Service, Interior.

ACTION: Notice.

SUMMARY: The U.S. Army Corps of Engineers, Omaha District, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the U.S. Army Corps of Engineers, Omaha District. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the U.S. Army Corps of Engineers, Omaha District, at the address in this notice by October 23, 2017.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is here given in accordance with the Native American Graves Protection and Repatriation Act (NAGPRA), 25 U.S.C. 3003, of the completion of an inventory of human remains and associated funerary objects under the control of the U.S. Army Corps of Engineers, Omaha District. The human remains and associated funerary objects were removed from site 39BF231, Buffalo County, SD.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the State Archaeological Research Center and the U.S. Army Corps of Engineers, Omaha District, professional staff in consultation with representatives of the Yankton Sioux Tribe of South Dakota.

History and Description of the Remains

In 1961, human remains representing, at minimum, two individuals were removed from site 39BF231 in Buffalo County, SD. The human remains were collected by Robert W. Neuman of the Smithsonian Institution, when thirteen coffin burials were excavated prior to construction of a new Highway 47. The human remains are determined to be Native American based on the location of the site, which is near the Crow Creek Indian Reservation. The human remains and associated funerary objects were stored at the Midwest Archeological Center (MWAC). The human remains were transferred from MWAC in 1964 to the University of Kansas, then to the University of Tennessee-Knoxville in 1971, and then to the Smithsonian Institution in 1979. The human remains are currently at the Smithsonian Institution and are not included in the Notice. MWAC did not transfer the funerary objects and the human remains together. Instead, MWAC transferred the funerary objects to the South Dakota State Archaeological Research Center (SARC) in 1987. In 1999 and 2000, SARC found human remains—mummified skin and hair—among the funerary objects. The mummified skin and hair are from two individual burials collected by Neuman in 1961. These human remains are currently housed at SARC. No known individuals were identified. The 1,351 associated funerary objects are 1,046 glass beads, 141 shell beads, 81 brass beads, 1 brass button, 16 glass buttons, 4 silver earrings, 1 vial of seeds, 2 wood fragments, 1 antler and brass handle, 1 chipped stone, 1 mirror with brass frame, 2 iron nails, 1 brass pendant, 3 pipe preforms, 38 iron pot fragments, 1 iron ring, 1 spoon, 2 brass tacks, 3 linen fragments, 3 wool fragments, and 2 brass thimbles.

The use of coffins for Native American burials and the alignment of the burials in rows are representative of the post-1870s, Early Reservation Period at the nearby Crow Creek Indian Reservation. By the 1870s, the reservation was inhabited by the Yanktonai. The associated funerary objects are consistent with Yanktonai historic burials. The Yanktonai today are represented by the Yankton Sioux Tribe of South Dakota. Consultation with the Yankton Sioux Tribe of South Dakota indicates that the associated funerary objects listed in this notice are the kinds of objects that were typically placed with individuals at the time of death.

Determinations Made by the U.S. Army Corps of Engineers, Omaha District

Officials of the U.S. Army Corps of Engineers, Omaha District, have determined that:

• Pursuant to 25 U.S.C. 3001(9), the human remains described in this notice represent the physical remains of two individuals of Native American ancestry.

• Pursuant to 25 U.S.C. 3001(3)(A), the 1,351 objects described in this notice are reasonably believed to have been placed with or near individual human remains at the time of death or later as part of the death rite or ceremony.

• Pursuant to 25 U.S.C. 3001(2), there is a relationship of shared group identity that can be reasonably traced between the Native American human remains and associated funerary objects and the Yankton Sioux Tribe of South Dakota.

Additional Requestors and Disposition

Lineal descendants or representatives of any Indian Tribe or Native Hawaiian organization not identified in this notice that wish to request transfer of control of these human remains and associated funerary objects should submit a written request with information in support of the request to Ms. Sandra Barnum, U.S. Army Engineer District, Omaha, ATTN: CENWO-PM-AB, 1616 Capital Avenue, Omaha, NE 68102, telephone, (402) 995-2674, email sandra.v.barnum@usace.army.mil, by October 23, 2017. After that date, if no additional requestors have come forward, transfer of control of the human remains and associated funerary objects to the Yankton Sioux Tribe of South Dakota may proceed.

The U.S. Army Corps of Engineers, Omaha District is responsible for notifying the Yankton Sioux Tribe of South Dakota that this notice has been published.

Dated: August 29, 2017.
Sarah Glass,
Acting Manager, National NAGPRA Program.

[FR Doc. 2017-20303 Filed 9-21-17; 8:45 am]

BILLING CODE 4312-52-P